DEPARTMENT OF DEFENSE

Department of the Army, Corps of Engineers

Notice of Intent To Prepare a Draft Environmental Impact Statement for the Sacramento River Flood Control Project, California, General Reevaluation

AGENCY: Department of the Army, U.S. Army Corps of Engineers, DoD.

ACTION: Notice of intent.

SUMMARY: The U.S. Army Corps of Engineers, Sacramento District (Corps), intends to prepare a draft Environmental Impact Statement (DEIS) for the general reevaluation of the Sacramento River Flood Control Project, California. The Corps will serve as the lead agency for compliance with the National Environmental Policy Act (NEPA). The general reevaluation is assessing opportunities to restore ecosystem function along the Sacramento River and improve flood risk reduction capabilities of the flood conveyance system originally constructed in 1917. The system is located along the Sacramento River, from Elder Creek near Tehama to its confluence with the San Joaquin River in the Sacramento-San Joaquin Delta near Collinsville. System features are also located along a number of tributaries, sloughs, and bypass channels, including the Feather River, American River, Sutter Bypass, and Yolo Bypass.

DATES: Written comments regarding the scope of the general reevaluation and DEIS should be received by the Corps on or before November 23, 2015.

ADDRESSES: Send written comments and suggestions concerning this general reevaluation and DEIS to Mr. Dan Artho, U.S. Army Corps of Engineers, Sacramento District, Attn: Planning Division (CESPK-PD), 1325 J Street, Sacramento, CA 95814 or via email at daniel.f.artho@usace.army.mil. Requests to be placed on the mailing list should also be sent to this address.

FOR FURTHER INFORMATION CONTACT: Mr. Dan Artho via telephone at (916) 557-7723, email at daniel.f.artho@usace.army.mil, or fax at (916) 557-7856. Study information will also be posted periodically on the internet at http://bit.ly/sacrivergrr.

SUPPLEMENTARY INFORMATION:

1. Proposed Action. The Corps, in cooperation with its non-Federal sponsors (The Central Valley Flood Protection Board and the State of California Department of Water Resources), is reevaluating the Sacramento River Flood Control Project to identify opportunities to restore the function and processes of the Sacramento River's aquatic ecosystem as well as improve the project's flood risk reduction performance. The general reevaluation is authorized pursuant with the Flood Control Act, Public Law 64-367, § 2, 39 Stat. 948 (1917) as amended and modified by subsequent Acts of Congress and as modified by Flood Control Act, Public Law 86-654, § 203, 74 Stat. 498 (1960), as supplemented by the River Basin Monetary Authorization Act, Public Law 93-252, § 202, 88 Stat. 49 (1974), and the Continuing Appropriations Resolution, Public Law 97-377, § 140, 96 Stat. 1916 (1982), and the Water Resources Development Act, Public Law 110-114, § 3031, 121 Stat. 1113 (2007).

2. Alternatives. The general reevaluation will assess a combination of one or more ecosystem restoration and flood risk management measures including widening existing bypasses, modifying existing weirs, optimizing weir operations, constructing setback levees, developing floodplain management plans, restoring riverine aquatic and riparian habitat, removing barriers to fish passage, and restoring natural geomorphic processes, among others. Changes or modifications to the Sacramento River Flood Control Project may include updates or revisions to the operation and maintenance manuals in affected areas. In addition, a no action alternative will be assessed. Mitigation measures for any significant adverse effects on environmental resources will be identified and incorporated into the alternatives in compliance with various Federal and State statutes.

3. Scoping Process:

a. Public scoping meetings will be held on November 3rd, 2015, from 3:00 p.m. to 7:00 p.m. at the City of West Sacramento, 1110 W. Capitol Ave., West Sacramento, California 95691, and November 9th, 2015 from 3:00 p.m. to 7:00 p.m. at the Yuba County Board of Supervisors, 915 Eighth Street, Marysville, California 95901. An overview of the study and the NEPA process will be presented, and an opportunity will be afforded to all interested parties to provide comments regarding the scope of the draft general reevaluation and DEIS analysis as well as potential alternatives.

b. Issues that will be analyzed in depth in the DEIS include effects on hydrology and hydraulics, vegetation and wildlife, special-status species, water quality, air quality, socioeconomic conditions, transportation, agricultural resources, hazardous materials, and cultural resources. Other issues may include geology, soils, topography, noise, esthetics, climate and recreation. This is a large geographic extent with many technical, physical, biological, and social complexities associated with it.

c. The Corps will consult with the U.S. Fish and Wildlife Service and the National Marine Fisheries Service to comply with the Endangered Species Act and the Fish and Wildlife Coordination Act. The Corps will also consult with the State Historic Preservation Officer to comply with the National Historic Preservation Act and coordinate with the U.S. Bureau of Indian Affairs to establish consultation requirements with tribes having trust assets and tribal interests that could be affected by the general reevaluation's outcome.

d. A 45-day review period will be allowed for all interested agencies and individuals to review and comment on the DEIS. All interested persons are encouraged to respond to this notice and provide a current address if they wish to be contacted about the DEIS.

4. Availability. The DEIS is scheduled to be available for public review and comment in the Spring of 2017.

Dated: October 16, 2015.
Michael J. Farrell,
Colonel, U.S. Army, District Commander.

[FR Doc. 2015-27032 Filed 10-22-15; 8:45 am]

BILLING CODE 3720-58-P